DEPARTMENT OF THE INTERIOR

Bureau of Land Management

[LLWYD010000.L14300000.EU0000, WYW179544]

Notice of Realty Action: Non-Competitive (Direct) Sale of Public Land in Teton County, WY

AGENCY: Bureau of Land Management, Interior.

ACTION: Notice of realty action.

SUMMARY: The Bureau of Land Management (BLM) is proposing to sell a 1.06-acre parcel of public land in Teton County, Wyoming, to TSR Limited under the provisions of Section 203 of the Federal Land Policy and Management Act of October 21, 1976 (FLPMA), as amended, for not less than the appraised fair market value of $75,000. This parcel is in an inaccessible location that is difficult and uneconomical for the BLM to manage as it is surrounded by private lands, most of which belongs to TSR Limited, and is not suitable for management by another Federal agency.

DATES: Comments regarding the proposed sale of the land is accepted until October 6, 2014.

ADDRESSES: Comments concerning this realty action may be submitted by any of the following methods:

• Mail: BLM, Field Manager, Pinedale Field Office, P.O. Box 768, 1625 West Pine Street, Pinedale, WY 82941.

• Email: Pinedale_WYMail@blm.gov with “TSR Limited Sale” in the subject line.

FOR FURTHER INFORMATION CONTACT: Tracy Hoover, Realty Specialist, at the above address or by telephone at 307-367-5342, or by email to thoover@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with the provisions of 43 CFR Part 2710, the proposed sale is suitable for direct sale under the authority of Section 203 of the FLPMA, as am ended (43 U.S.C. 1713):

Sixth Principal Meridian, Teton County, Wyoming

T. 41 N., R. 117 W.,

Tract 46B.

The area described contains 1.06 acres.

The proposed direct sale is consistent with the objectives, goals, and decision of the 2004 Snake River Resource Management Plan (RMP). The parcel is identified for disposal in the 2013 RMP Record of Decision Amendment. Lands owned by TSR Limited surround the 30 feet wide, isolated parcel on three sides and it is otherwise in an inaccessible location. Given its location, the BLM has determined that this parcel is difficult and uneconomical to manage and is not suitable for management by another Federal agency. In accordance with 43 CFR 2710.0-6(c)(3)(iii) and 43 CFR 2711.3-3(a)(4), direct sale procedures are appropriate for this parcel given the adjoining ownership pattern. TSR Limited will be allowed 30 days from the receipt of a written offer to submit a deposit of at least 20 percent of the appraised value of the parcel, and 180 days thereafter to submit the balance.

On March 20, 2013, the BLM published a Notice of Realty Action (NORA) in the Federal Register (78 FR 17227) to segregate the parcel from appropriation under the public land and mining laws. The segregative effect of that notice shall terminate upon issuance of a patent, upon publication in the Federal Register of a termination of the segregation, or on March 20, 2014, whichever comes first. In addition to this NORA, notice of this sale will be published once a week for 3 weeks in the Jackson Hole News and Guide.

Conveyance of the identified public land will be subject to valid existing rights and encumbrances of record, including but not limited to, rights-of-way for roads and public utilities. All minerals will be reserved to the United States. Upon publication of this NORA and until completion of the sale, the BLM will no longer accept land use applications affecting the identified public land, except applications for the amendment of previously-filed right-of-way applications or existing authorizations to increase the term of the grants in accordance with 43 CFR 2807.15 and 2886.15.

The public land will not be offered for sale prior to October 20, 2014.

The patent, if issued, will be subject to the following terms, conditions, and reservations:

1. A reservation of all minerals to the United States;

2. A right-of-way thereon for ditches or canals constructed by the authority of the United States pursuant to the Act of August 30, 1890 (43 U.S.C. 945); and

3. All valid existing rights of record, including those documented on the official public land records at the time of patent issuance.

Detailed information concerning the proposed land sale, including sale procedures, appraisal, planning and environmental documents, and a mineral report is available for review at the location identified in ADDRESSES above. Comments regarding the proposed sale will be accepted until October 6, 2014.

Before including your address, phone number, email address, or other personal identifying information in your comment, you should be aware that your entire comment—including your personal identifying information—may be made publicly available at any time. While you may ask us in your comment to withhold your personal identifying information from public review, we cannot guarantee that we will be able to do so.

Any comments regarding the proposed sale will be reviewed by the BLM Wyoming State Director or authorized official of the Department of the Interior, who may sustain, vacate, or modify this realty action in response to such comments. In the absence of timely filed objections, this realty action will become the final determination of the Department of the Interior.

Authority: 43 CFR 2711.1-2.

Donald A. Simpson,
State Director, Wyoming.

[FR Doc. 2014-19731 Filed 8-19-14; 8:45 am]

BILLING CODE 4310-22-P